NATIONAL SCIENCE FOUNDATION

Sunshine Act Meetings; National Science Board

The National Science Board, pursuant to NSF regulations (45 CFR part 614), the National Science Foundation Act, as amended, (42 U.S.C. 1862n-5), and the Government in the Sunshine Act (5 U.S.C. 552b), hereby gives notice of the scheduling of meetings for the transaction of National Science Board business as follows:

DATE AND TIME: May 5, 2016 from 8:00 a.m. to 4:30 p.m., and May 6, 2016 from 8:00 a.m. to 2:30 p.m. EDT.

PLACE: These meetings will be held at the National Science Foundation, 4201 Wilson Blvd., Room 1235, Arlington, VA 22230. All visitors must contact the Board Office (call 703-292-7000 or send an email to nationalsciencebrd@nsf.gov) at least 24 hours prior to the meeting and provide your name and organizational affiliation. Visitors must report to the NSF visitor's desk in the lobby of the 9th and N. Stuart Street entrance to receive a visitor's badge.

WEBCAST INFORMATION: Public meetings and public portions of meetings will be webcast. To view the meetings, go to http://www.tvworldwide.com/events/nsf/160505/ and follow the instructions.

UPDATES: Please refer to the National Science Board Web site for additional information. Meeting information and schedule updates (time, place, subject matter, and status of meeting) may be found at http://www.nsf.gov/nsb/meetings/notices.jsp.

AGENCY CONTACT: Ron Campbell, jrcampbe@nsf.gov, 703-292-7000.

PUBLIC AFFAIRS CONTACT: Nadine Lymn, nlymn@nsf.gov, 703-292-2490.

STATUS: Portions open; portions closed.

OPEN SESSIONS:

May 5, 2016

8:00-8:30 a.m.—Plenary introduction, NSB Chair and NSF Director Reports

8:30-9:30 a.m.—Committee on Programs and Plans (CPP)

9:30-9:45 a.m.—Subcommittee on Facilities (SCF)

9:45-10:25 a.m.—Task Force on NEON Performance and Plans (NPP)

10:55-11:15 a.m.—Plenary speaker, NSB Public Service awardee

11:15-11:35 a.m.—Plenary speaker, Vannevar Bush awardee

11:35-11:55 a.m.—Plenary speaker, Alan T. Waterman awardee

3:05-4:30 p.m.—Committee on Audit and Oversight (A&O)

May 6, 2016

8:00-9:00 a.m.—Committee on Science and Engineering Indicators (SEI)

9:00-9:45 a.m.—Committee on Strategy and Budget (CSB)

1:00-2:30 p.m.—(Plenary)

CLOSED SESSIONS:

May 5, 2016

10:25-10:40 a.m. (NPP)

1:00-2:55 p.m. (CPP)

May 6, 2016

9:45-10:15 a.m. (CSB)

10:15-11:30 a.m. (Plenary)

11:30 a.m.-12:00 p.m. (Plenary executive)

MATTERS TO BE DISCUSSED:

Thursday, May 5, 2016

Plenary Board Meeting

Open Session: 8:00-8:30 a.m.

• Introduction and NSB Chair's report

• NSF Director's report

Committee on Programs and Plans (CPP)

Open Session: 8:30-9:30 a.m.

• CPP Chair's opening remarks

• Approval of open CPP minutes for February 2016, and joint open CPP, CSB, and SCF minutes for February 2016

• Calendar year 2016 schedule of planned action and information items for NSB review: Update for the May 2016 meeting

• An overview of Computer and Information Science and Engineering (CISE) infrastructure investments and directorate programs

• CPP Chair's closing remarks

Subcommittee on Facilities (SCF)

Open Session: 9:30-9:45 a.m.

• SCF Chair's opening remarks

• Approval of open SCF minutes from February 2016, and March 2016, and for closed SCF minutes from March 2016

• Discussion of past, present and planned SCF activities, including the Facilities Portal

• SCF Chair's closing remarks

Task Force on NEON Performance and Plans (NPP)

Open Session: 9:45-10:25 a.m.

• NPP Chair's opening remarks

• Approval of open NPP minutes from November 2015 meeting

• NSF Director's update, including root causes

• NPP final report

• NPP Chair's closing remarks

Task Force on NEON Performance and Plans (NPP)

Closed Session: 10:25-10:40 a.m.

• NPP Chair's opening remarks

• Approval of closed teleconference minutes from February 2016

• NSF Director's update

• NPP Chair's closing remarks

Plenary Board Meeting

Open Session: 10:55-11:15 a.m.

• NSB Chair's opening remarks

• Guest speaker—Ms. Margaret Brandon, President, Sea Education Association, recipient of the NSB Public Service Award

• NSB Chair's closing remarks

Plenary Board Meeting

Open Session: 11:15-11:35 a.m.

• NSB Chair's opening remarks

• Guest speaker—Dr. Robert Birgeneau, Recipient of the NSB Vannevar Bush Award

• NSB Chair's closing remarks

Plenary Board Meeting

Open Session: 11:35-11:55 a.m.

• NSB Chair's opening remarks

• NSF Director introduces the Alan T. Waterman Awardee

• Guest speaker—Dr. Mircea Dincă, Recipient of the Alan T. Waterman Award

• NSB Chair's closing remarks

Committee on Programs and Plans

Closed Session: 1:00-2:55 p.m.

• CPP Chair's opening remarks

• Approval of closed CPP minutes for February 2016 and the joint closed CPP, CSB, and SCF minutes for February 2016

• Information item—Green Bank Observatory (GBO) and the Very Long Baseline Array (VLBA)

• Information item—Laser Interferometer Gravity Wave Observatory (LIGO)

• Cornell High Energy Synchrotron Source (CHESS)

• NSB action item—National Superconducting Cyclotron Laboratory (NSCL)

• NSB action item—XSEDE 2

• CPP Chair's closing remarks

Committee on Audit and Oversight (A&O)

Open Session: 3:05-4:30 p.m.

• A&O Chair's opening remarks

• Approval of open A&O minutes from February 2016

• Management Fees and Discussion

• Approval of OIG Semiannual Report materials and discussion of a Management Response

• Presentation on OIG audit of Sunshine Act compliance

• Inspector General's update

• Chief Financial Officer's update

• Presentation on Transparency and Accountability

• A&O Chair's closing remarks

MATTERS TO BE DISCUSSED:

Friday, May 6, 2016

Committee on Science and Engineering Indicators (SEI)

Open Session: 8:00-9:00 a.m.

• SEI Chair's opening remarks

• Approval of open SEI minutes for February 2016

• Briefing on the outcome of the April 27-28 Indicators stakeholder workshop

• Update on Science and Engineering Indicators outreach

• Update on the next Companion Briefs: (1) Career destinations for STEM Ph.D.s, and (2) STEM diversity

• Discussion on developing better indicators on K-12 STEM education

• Indicators 2018 schedule

• SEI Chair's closing remarks

Committee on Strategy and Budget (CSB)

Open Session: 9:00-9:45 a.m.

• CSB Chair's opening remarks

• Approval of open CSB minutes for February 2016

• Update on FY 2017 budget

• Discussion—Beyond the presidential transition: NSF's ideas for future investment

• CSB Chair's closing remarks

Committee on Strategy and Budget

Closed Session: 9:45-10:15 a.m.

• CSB Chair's opening remarks

• Approval of closed CSB minutes for February, 2016

• Update on FY 2016 pre-decisional budget items under renegotiation

• NSF FY 2018 budget development

• CSB Chair's closing remarks

Plenary Board

Closed Session: 10:15-11:30 a.m.

• NSB Chair's opening remarks

• NSF Director's Remarks

• Approval of closed plenary minutes for February, 2016

• Consideration and approval of NSB resolution for an award to XSEDE 2

• Consideration and approval of NSB resolution for an award to NSCL

• Discussion of contract for financial statement audit

• Discussion of pending MREFC legislation

• Closed committee reports

• NSB Chair's closing remarks

Plenary Board (Executive)

Closed Session: 11:30 a.m.-12:00 p.m.

• NSB Chair's opening remarks

• Approval of closed executive minutes for February, 2016

• Elections Committee report

• Elections for NSB Chair, Vice Chair, and two members of Executive Committee

• NSB Chair's closing remarks

Plenary Board

Open Session: 1:00-2:30 p.m.

• Approval of open plenary minutes for February, 2016

• NSB Chair's opening remarks

• Introduction of the NSF “LIGO Team”

• NSF Director's remarks

• Review and approval of annual Executive Committee report

• Open committee reports

• Discharge NPP

• Presentations to outgoing Board members

• NSB Chair's closing remarks

MEETING ADJOURNS: 2:30 p.m.

Ann Bushmiller,
Senior Legal Counsel, National Science Board.

[FR Doc. 2016-10254 Filed 4-27-16; 4:15 pm]

BILLING CODE 7555-01-P